COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products to the Procurement List that will be furnished by nonprofit agencies employing persons who are blind or have other severe disabilities.

DATES: 8/25/2014.

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 6/6/2014 (79 FR 32716-32718), the Committee for Purchase From People Who Are Blind or Severely Disabled published notice of proposed additions to the Procurement List.

After consideration of the material presented to it concerning capability of qualified nonprofit agencies to provide the products and impact of the additions on the current or most recent contractors, the Committee has determined that the products listed below are suitable for procurement by the Federal Government under 41 USC 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 USC 8501-8506) in connection with the products proposed for addition to the Procurement List.

End of Certification

Accordingly, the following products are added to the Procurement List:

Products

Battery

NSN: 6135-01-372-5191—NEDA 1811A, Non-Rechargeable, 12.0V, Alkaline-Manganese Dioxide Zinc

NSN: 6135-01-174-8057—NEDA 1166A, Non-Rechargeable, 1.5V, Alkaline-Manganese Dioxide

NSN: 6140-01-413-3926—NEDA 1.2H2, Rechargeable, 1.2V, Nickel-Metal Hydride, PG/4

NSN: 6140-01-467-3225—NEDA 1.2H2, Rechargeable, 1.2V, Nickel-Metal Hydride, PG/2

NSN: 6135-01-394-8087—NEDA 1168A, Non-Rechargeable, 1.5V, Alkaline-Manganese Dioxide

NSN: 6135-01-268-2151—NEDA 1414A, Non-Rechargeable, 6.0V, Alkaline-Manganese Dioxide

NSN: 6135-01-314-8415—NEDA 5000LC, Non-Rechargeable, 3.0V, Lithium

NSN: 6135-01-526-6530—NEDA 5003LC, Non-Rechargeable, 3.0V, Lithium-Manganese Dioxide

NSN: 6135-01-210-8715—NEDA 5004LC, Non-Rechargeable, 3.0V, Lithium-Manganese Dioxide

NSN: 6135-01-320-4815—NEDA 5011LC, Non-Rechargeable, 3.0V, Lithium

NSN: 6135-01-263-3611—NEDA 5012LC, Non-rechargeable, 3.0V, Lithium-Manganese Dioxide

NSN: 6135-01-522-2463—NEDA 5021LC, Non-Rechargeable, 3.0V, Lithium Manganese Dioxide

NSN: 6135-01-462-4007—NEDA 5032LC, Non-Rechargeable, 6.0V, Lithium-Manganese Dioxide

NSN: 6135-01-534-0310—NEDA 5046LC, Non-Rechargeable, 3.0V, Lithium-Manganese Dioxide

NSN: 6135-01-138-8157—NEDA 7003ZD, Non-Rechargeable, 1.4V, Zinc Air

NSN: 6135-01-586-4220—NEDA 5018LC, Non-Rechargeable, 3.0V, Lithium Photo

NPA: Eastern Carolina Vocational Center, Inc., Greenville, NC

Contracting Activity: Defense Logistics Agency Land and Maritime, Columbus, OH

Coverage: C-List for 100% of the requirement of the Department of Defense, as aggregated by the Defense Logistics Agency Land and Maritime, Columbus, OH.

NSN: 8540-00-NIB-0093—Tissue, Toilet, 1-Ply, White, 96 Rolls

NSN: 8540-00-NIB-0094—Tissue, Toilet, 2-Ply, 4″ x 3.75″, White, 96 Rolls

ADDITIONAL INFORMATION. In accordance with 41 CFR 51-5.3, Scope of Requirement, when a product is included on the Procurement List, the mandatory source requirement covers the National Stock Number (NSN) or item designation listed and products that are essentially-the-same (ETS) as the listed item(s). To determine ETS products for the two NSNs identifying the toilet tissue hereby added to the Procurement List, the US AbilityOne Commission reviewed facts/positions and Business Case Analyses provided by the General Services Administration and National Industries for the Blind. As a result of the review, the following commercial products are designated as ETS to the NSNs being included on Procurement List.

8540-00-NIB-0094—Toilet Tissue, 2-ply, Standard Rolls, 4x3.75″, 500 sheets/roll, BX=96 rolls

WIN/WNS2200—Windsoft, 2-ply, 4.5x4.5″, 500 sheets/roll, BX=96 rolls

SCA/TM1616—Tork Universal, 2-ply, 4.5x3.8″, 500 sheets/roll, BX=96 rolls

SCA/TM1616S—Tork Universal, 2-ply, 4x3.8″, 500 sheets/roll, BX=96 rolls

SCA/TM6120S—Tork Advanced, 2-ply, 4x3.8″, 500 sheets/roll, BX=96 rolls

BWK6150—Boardwalk, 2-ply, 4.5x3.75″, 500 sheets/roll, BX=96 rolls

BWK6180—Boardwalk, 2-ply, 4.5x3″, 500 sheets/roll, BX=96 rolls

BWK6155—Boardwalk, 2-ply, 4.5x4.5″, 500 sheets/roll, BX=96 rolls

WAU54900—Eco Soft Green Seal, 2-ply, 4.375x3.75″, 500 sheets/roll, BX=96 rolls

WAU50000—Eco Soft, 2-ply, 4x4.5″, 500 sheets/roll, BX=96 rolls

WAU54000—Eco Soft, 2-ply, 4.375x3.75″, 500 sheets/roll, BX=96 rolls

APM280GREEN—Green Heritage, 2-ply, 4.5x4.5″, 500 sheets/rolls, BX=96 rolls

APM235GREEN—Green Heritage, 2-ply, 4.5x3.5″, 500 sheets/rolls, BX=96 rolls

APM276GREEN—Green Heritage, 2-ply, 4.1x3.1″, 500 sheets/rolls, BX=96 rolls

APM248GREEN—Green Heritage, 2-ply, 4.1x3.1″, 400 sheets/rolls, BX=96 rolls

GEN201—GEN, 2-ply, 4.2x3.2″, 500 sheets/roll, BX=96 rolls

GEN238—GEN, 2-ply, 4.5x3.5″, 500 sheets/roll, BX=96 rolls

GEN500—GEN, 2-ply, 4.5x3.5″, 500 sheets/roll, BX=96 rolls

GEN502—GEN, 2-ply, 500 sheets/roll, BX=96 rolls

NOR 880199—Carlyle, 2-ply, 4.5x3.75″, 500 sheets/roll, BX=96 rolls

S-7131—Uline, 2-ply, 4.5x3.75″, 500 sheets/roll, BX=96 rolls

422604/2033722/1150944—Reliable, 2-ply, 3.75x4.5″, 500 sheets/roll, BX=96 rolls

8540-00-NIB-0093—Toilet Tissue, 1-ply, Standard Rolls, 4x3.75″, 1000 sheets/roll, BX=96 rolls

851101—Clean & Soft, 1-ply, 4.4x4.4″, 1000 sheets/roll, BX=96 rolls

APM115GREEN—Green Heritage, 1-ply, 4.1x3.1″, 1000 sheets/roll, BX=96 rolls

WNS/WIN2210—Windsoft, 1-ply, 4.5x4.1″, 1000 sheets/roll, BX=96 rolls

GEN215—GEN, 1-ply, 4.5x3″, 1000 sheets/roll, BX=96 rolls

GEN218—GEN, 1-ply, 4.5x3.5″, 1000 sheets/roll, BX=96 rolls

MORMS1000—Morcon, 1-ply, 4.25x3.625″, 1000 sheets/roll, BX=96 rolls

NPA: Outlook-Nebraska, Inc., Omaha, NE

Contracting Activity: General Services Administration, New York, NY

Coverage: A-List for the Total Government Requirement as aggregated by the General Services Administration, New York, NY.

Patricia Briscoe,
Deputy Director, Business Operations, Pricing and Information Management.

[FR Doc. 2014-17566 Filed 7-24-14; 8:45 am]

BILLING CODE 6353-01-P